DEPARTMENT OF COMMERCE

Bureau of Industry and Security

Action Affecting Export Privileges; Ihsan Elashyi, also known as Ihsan Elashi and Sammy Elashyi, Tetrabal Corporation, Inc., Maysoon Al Kay Ali, Mynet.Net Corp, and Al Kayali Corporation

In the Matter of: Ihsan Elashyi also known as Ihsan Elashi and Sammy Elashyi currently incarcerated at: USM No: 26265-177, FCI Seagoville, 2113 North Highway 175, Seagoville, Texas 75159 and with an address at: 605 Trail Lake Drive, Richardson, Texas 75081, Respondent, Tetrabal Corporation, Inc., 605 Trail Lake Drive, Richardson, Texas 75081, Maysoon Al Kayali, 605 Trail Lake Drive, Richardson, Texas 75081, Mynet.Net Corp, 605 Trail Lake Drive, Richardson, Texas 75081, Al Kayali Corporation, 605 Trail Lake Drive, Richardson, Texas 75081, Related Persons; Order Denying Export Privileges

On October 23, 2002, a U.S. District Court in the Northern District of Texas convicted Ishan Elashyi, also known as Ihsan Elashi and Sammy Elashyi (“Elashyi”) of violating the International Emergency Economic Powers Act (50 U.S.C. 1701-1707 (2000)) (“IEEPA”), among other crimes. Specifically, the Court found that Elashyi knowingly and willfully violated a regulation and order of the United States Department of Commerce, to wit, the Temporary Denial Order of September 6, 2001, by participating in a transaction involving the exporting and attempted exporting of goods and commodities that were subject to the Export Administration Regulations from the United States to Saudi Arabia.

Section 11(h) of the Export Administration Act of 1979, as amended (currently codified at 50 U.S.C. app. 2401-2420 (2000)) (“Act”) ¹ provides that, at the discretion of the Secretary of Commerce,² no person convicted of violating any of a number of federal criminal statutes including the IEEPA shall be eligible to apply for or use any export license issued pursuant to, or provided by, the Act or the Export Administration Regulations (currently codified at 15 CFR parts 730 through 774 (2003)) (“Regulations”), for a period of up to 10 years from the date of the conviction. In addition, any license issued pursuant to the Act in which such a person had any interest at the time of conviction may be revoked.

¹ From August 21, 1994 through November 12, 2000, the Act was in lapse. During that period, the President, through Executive Order 12924, which had been extended by successive Presidential Notices, the last of which was issued on August 3, 2000 (3 CFR 2000 Comp. 397 (2001)), continued the Regulations in effect under the International Emergency Economic Powers Act (50 U.S.C. 1701-1706 (1994 & Supp. V 1999)) (IEEPA). On November 13, 2000, the Act was reauthorized and it remained in effect through August 20, 2001. Since August 21, 2001, the Act has been in lapse and the President, through Executive Order 13222 of August 17, 2001 (3 CFR 2001 Comp. 783 (2002)), as extended by the Notice of August 14, 2002 (67 FR 53721 (August 16, 2002)), has continued the Regulations in effect under IEEPA.

² Pursuant to appropriate delegations of authority that are reflected in the Regulations, the Director, Office of Exporter Services, in consultation with the Director, Office of Export Enforcement, exercises the authority granted to the Secretary by section 11(h) of the Act.

Pursuant to §§ 766.25 and 750.8(a) of the regulations, upon notification that a person has been convicted of violating the IEEPA, the Director, Office of Exporter Services, in consultation with the Director, Office of Export Enforcement, shall determine whether to deny that person's export privileges for a period of up to 10 years from the date of conviction and shall also determine whether to revoke any license previously issued to such a person.

In addition, pursuant to §§ 766.25(h) and 766.23 of the regulations, the Director, Office of Exporter Services, in consultation with the Director, Office of Export Enforcement, may take action to make applicable to related persons an order that is being sought or that has been issued (“related person”).

Having received notice of Elashyi's conviction for violating the IEEPA, and after providing notice and an opportunity for Elashyi and the related persons to make a written submission to the Bureau of Industry and Security before issuing an Order denying Elashyi's export privileges, and naming Tetrabal Corporation, Inc., Maysoon Al Kayali, Mynet.net Corporation and Al Kayali Corporation as related persons, as provided in § 766.25 of the regulations, and having read and carefully considered Elashyi's response of May 16, 2003, I, following consultations with the Director, Office of Export Enforcement, have decided to deny Elashyi's export privileges for a period of seven years from the date of Elashyi's conviction, and name Tetrabal Corporation, Inc., Maysoon Al Kayali, Mynet.net Corporation and Al Kayali Corporation as related persons. The seven-year period ends on October 23, 2009. I have also decided to revoke all licenses issued pursuant to the Act in which Elashyi or the related persons had an interest at the time of Elashyi's conviction.

Accordingly, it is hereby Ordered:

I. Until October 23, 2009, Ishan Elashyi, also known as Ihsan Elashi and Sammy Elashyi, currently incarcerated at: USM No: 26265-177, FCI Seagoville, 2113 North Highway 175, Seagoville, Texas 75159, and with an address at 605 Trail Lake Drive, Richardson, Texas 75081, (“the denied person”) and the following persons subject to the order by their relationship to the denied person, Tetrabal Corporation, Inc., Maysoon Al Kayali, Mynet.net Corporation and Al Kayali Corporation, all at the same address of 605 Trail Lake Drive, Richardson, Texas 75081, (“the related persons”) (together, the denied person and the related persons are “persons subject to this order”) may not, directly or indirectly, participate in any way in any transaction involving any commodity, software or technology (hereinafter collectively referred to as “item”) exported or to be exported from the United States that is subject to the Regulations, or in any other activity subject to the EAR, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

II. No person may, directly or indirectly, do any of the following:

A. Export or reexport to or on behalf of the denied person any item subject to the Regulations;

B. Take any action that facilitates the acquisition or attempted acquisition by a person subject to this order of the ownership, possession, or control of any item subject to the Regulations that has been or will be exported from the United States, including financing or other support activities related to a transaction whereby a person subject to this order acquires or attempts to acquire such ownership, possession or control;

C. Take any action to acquire from or to facilitate the acquisition or attempted acquisition from a person subject to this order of any item subject to the Regulations that has been exported from the United States;

D. Obtain from a person subject to this order in the United States any item subject to the Regulations with knowledge or reason to know that the item will be, or is intended to be, exported from the United States; or

E. Engage in any transaction to service any item subject to the Regulations that has been or will be exported from the United States and which is owned, possessed or controlled by a person subject to this order, or service any item, of whatever origin, that is owned, possessed or controlled by a person subject to this order if such service involves the use of any item subject to the Regulations that has been or will be exported from the United States. For purposes of this paragraph, servicing means installation, maintenance, repair, modification or testing.

III. In addition to the related persons named above, after notice and opportunity for comment as provided in § 766.23 of the regulations, any other person, firm, corporation, or business organization related to the denied person by affiliation, ownership, control, or position of responsibility in the conduct of trade or related services may also be made subject to the provisions of this Order.

IV. This Order does not prohibit any export, reexport, or other transaction subject to the Regulations where the only items involved that are subject to the Regulations are the foreign-produced direct product of U.S.-origin technology.

V. This Order is effective immediately and shall remain in effect until October 23, 2009.

VI. In accordance with Part 756 of the Regulations, Elashyi, and any of the related persons may file an appeal from this Order with the Under Secretary for Industry and Security. The appeal must be filed within 45 days from the date of this Order and must comply with the provisions of Part 756 of the Regulations.

VII. A copy of this Order shall be delivered to Elashyi and each related person. This Order shall be published in the Federal Register.

Dated: June 19, 2003.
Eileen M. Albanese,
Director, Office of Exporter Services.

[FR Doc. 03-16250 Filed 6-26-03; 8:45 am]

BILLING CODE 3510-DT-M